DEPARTMENT OF JUSTICE

Notice of Lodging of Consent Decree Under the Clean Air Act

Notice is hereby given that on August 4, 2010, a proposed Consent Decree (the “Decree”) in United States v. Massachusetts Bay Transportation Authority (“MBTA”) and Massachusetts Bay Commuter Railroad Company, L.L.C., Civil Action No. 1:10-cv-11311, was lodged with the United States District Court for the District of Massachusetts.

In a complaint, filed simultaneously with the Decree, the United States alleges that the Massachusetts Bay Transportation Authority (“MBTA”) and the Massachusetts Bay Commuter Railroad Company, L.L.C. (“MBCR”) violated the Clean Air Act, 42 U.S.C. 7401 et seq., and 310 CMR § 7.11(2)(b), a regulation included in the Massachusetts' State Implementation Plan, by causing, suffering, allowing, or permitting the unnecessary foreseeable idling of a diesel powered locomotive for a continuous period of time longer than thirty minutes, and not subject to the regulation's exception.

Pursuant to the Decree, MBTA and MBCR will: (1) Install sufficient electric plug-in stations throughout the MBTA's commuter rail system to fully supply electric auxiliary power to all diesel locomotives that lay over at all of the MBTA's layover facilities; (2) implement a fuel switch supplemental environmental project (“SEP”) that requires Defendants to switch the MBTA's entire commuter train fleet from low sulfur diesel fuel (500 ppm sulfur) to ultra-low sulfur diesel fuel (15 ppm sulfur) two years prior to federal regulations mandating the switch; and (3) retrofit 14 diesel locomotives with new head end power units that have increased emission controls. MBTA and MBCR will also pay a $225,000 civil penalty to the United States pursuant to the Decree.

The Department of Justice will receive, for a period of thirty (30) days from the date of this publication, comments relating to the Decree. Comments should be addressed to the Assistant Attorney General, Environment and Natural Resources Division, and either e-mailed to pubcomment-ees.enrd@usdoj.gov or mailed to P.O. Box 7611, U.S. Department of Justice, Washington, DC 20044-7611, and should refer to United States v. Massachusetts Bay Transportation Authority (“MBTA”) and Massachusetts Bay Commuter Railroad Company, L.L.C., D.J. Ref. 90-5-2-1-09617.

During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.75 (25 cents per page reproduction cost) payable to the U.S. Treasury or, if by e-mail or fax, forward a check in that amount to the Consent Decree Library at the stated address.

Maureen Katz,
Assistant Section Chief, Environmental Enforcement Section, Environment and Natural Resources Division.

[FR Doc. 2010-19622 Filed 8-9-10; 8:45 am]

BILLING CODE 4410-15-P